DEPARTMENT OF JUSTICE

Foreign Claims Settlement Commission

[F.C.S.C. Meeting and Hearing Notice No. 10-11]

Sunshine Act Meeting

The Foreign Claims Settlement Commission, pursuant to its regulations (45 CFR part 503.25) and the Government in the Sunshine Act (5 U.S.C. 552b), hereby gives notice in regard to the scheduling of open meetings as follows:

Monday, October 17, 2011: 10:30 a.m.—Issuance of Proposed Decisions in claims against Libya; 3 p.m.—Oral hearings on objections to Commission's Proposed Decisions in Claim Nos.LIB-II-128, LIB-II-129, LIB-II-130 and LIB-II-131.

Status: Open.

All meetings are held at the Foreign Claims Settlement Commission, 600 E Street, NW., Washington, DC. Requests for information, or advance notices of intention to observe an open meeting, may be directed to: Judith H. Lock, Executive Officer, Foreign Claims Settlement Commission, 600 E Street, NW., Suite 6002, Washington, DC 20579. Telephone: (202) 616-6975.

Jaleh F. Barrett,
Chief Counsel.

[FR Doc. 2011-26305 Filed 10-6-11; 4:15 pm]

BILLING CODE 4410-BA-P